Proclamation 10647 of October 6, 2023

German-American Day, 2023

By the President of the United States of America

A Proclamation

On German-American Day, we honor the over 40 million Americans who claim German heritage and the countless ways they have strengthened the diverse fabric of our Nation.

They have since the beginning. In 1683, 13 German families fled religious persecution at home and founded the first German settlement just outside of Philadelphia. Ever since, the story of German Americans has been inextricable from the story of America: German Americans fought for our freedom in the Revolutionary War, debates over the deliberations of the Continental Congress happened in German coffeehouses, a local German newspaper was the first to break the news that the Declaration of Independence had been signed, and so much more.

Today, German Americans continue to enrich our Nation's character and culture as leaders in every sector and community. They also form the cornerstone of our Nation's strong bonds with Germany and its people. As capable allies and close friends, the partnership between Germany and the United States is essential to our joint efforts to address global challenges—from tackling climate change and food insecurity to defending human rights and democracy. And together, we will continue to stand up for the values that unite us—freedom, liberty, and sovereignty—including standing with the brave people of Ukraine as they defend themselves against Russia's brutal aggression.

On this day—340 years after the first German settlement was founded on American shores—let us celebrate the incredible legacy of generations of German Americans and the unbreakable bonds of friendship between our two countries.

NOW, THEREFORE, I, JOSEPH R. BIDEN JR., President of the United States of America, do hereby proclaim October 6, 2023, as German-American Day. I urge all Americans to celebrate the rich and varied history of German Americans and remember the many contributions they have made to our Nation.

IN WITNESS WHEREOF, I have hereunto set my hand this sixth day of October, in the year of our Lord two thousand twenty-three, and of the Independence of the United States of America the two hundred and forty-eighth.

[FR Doc. 2023-22665

Filed 10-11-23; 8:45 am]

Billing code 3395-F4-P